FEDERAL MARITIME COMMISSION

Ocean Transportation Intermediary License Rescission of Orders of Revocation

Notice is hereby given that the Orders revoking the following licenses are being rescinded by the Federal Maritime Commission pursuant to sections 14 and 19 of the Shipping Act of 1984 (46 U.S.C. app. 1718) and the regulations of the Commission pertaining to the licensing of Ocean Transportation Intermediaries, 46 CFR part 515.

License Number | Name/Address
016107N | Alisped U.S.A. Inc., 156-15 146th Street, Jamaica, NY 11434.
003854NF | Bennett International Transport, Inc., 1001 Industrial Parkway, P.O. Box 569, McDonough, GA 30253.
004101F | Distribution Support Management, Inc., 75 Northcrest, Newnan, GA 30265.

Sandra L. Kusumoto,
Director, Bureau of Consumer Complaints and Licensing.

[FR Doc. 04-14248 Filed 6-22-04; 8:45 am]

BILLING CODE 6730-01-P